DEPARTMENT OF COMMERCE

National Oceanic and Atmospheric Administration

[RTID 0648-XE479]

Pacific Fishery Management Council; Public Meetings

AGENCY: National Marine Fisheries Service (NMFS), National Oceanic and Atmospheric Administration (NOAA), Commerce.

ACTION: Notice of public meetings.

SUMMARY: The Pacific Fishery Management Council (Pacific Council) will convene a series of three online meetings of its Advisory Bodies to discuss Pacific Council projects funded under the Inflation Reduction Act (IRA); all three meetings are open to the public.

DATES: The online meetings will be held on Wednesday, December 11, 2024, from 10 a.m. to 2 p.m., Pacific time, or until business for the day is completed; Friday, December 13, 2024, from 12 p.m. to 4 p.m., or until business for the day is completed; and Tuesday, December 17, 2024, from 12 p.m. to 4 p.m., or until business for the day is completed.

ADDRESSES: These meetings will be held online. Specific meeting information, including directions on how to join the meetings and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Gilly Lyons, Staff Officer, Pacific Council; telephone: (503) 820-2427.

SUPPLEMENTARY INFORMATION: The Pacific Council will hold a series of three online meetings to discuss its IRA projects and associated project planning and development. Members of Advisory Bodies in attendance may also discuss project timelines, work products, milestones, and Advisory Body roles and responsibilities. Each meeting will focus on a separate IRA project: December 11—Innovating the Implementation of Council Actions to Respond to a Dynamic Ocean Environment; December 13—Considering the Effects of Council Management Actions on Human Well-Being in Vulnerable Fishing Communities Impacted by a Changing Marine Ecosystem; and December 17—Developing Climate-Ready Fishing Methods that Mitigate Bycatch of Non-Target, Associated Species in a Changing Ecosystem. Detailed meeting agendas will be available on the Pacific Council's website prior to the meeting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: November 18, 2024.
Rey Israel Marquez,
Acting Deputy Director, Office of Sustainable Fisheries, National Marine Fisheries Service.

[FR Doc. 2024-27370 Filed 11-21-24; 8:45 am]

BILLING CODE 3510-22-P